DEPARTMENT OF THE INTERIOR

Fish and Wildlife Service

Marine Mammals; Incidental Take During Specified Activities

AGENCY: Fish and Wildlife Service, Interior.

ACTION: Notice of receipt of applications and proposed incidental harassment authorization; request for comments.

SUMMARY: The Fish and Wildlife Service (Service) has received requests from Shell Offshore, Inc. (Shell), ConocoPhillips Alaska, Inc. (CPAI), and GXT Houston (GXT) for authorizations to take small numbers of marine mammals by harassment incidental to conducting open-water seismic operations in the Chukchi Sea. In accordance with provisions of the Marine Mammal Protection Act (MMPA), as amended, the Service requests comments on its proposed authorization for the operators identified above to incidentally take, by harassment, small numbers of Pacific walrus and polar bears in the Chukchi Sea area between June 1, 2006, and November 30, 2006.

DATES: Comments and information must be received by June 7, 2006.

ADDRESSES: You may submit comments by any of the following methods:

1. By mail to: Craig Perham, Office of Marine Mammals Management, U.S. Fish and Wildlife Service, 1011 East Tudor Road, Anchorage, Alaska 99503.

2. By fax to: 907-786-3816.

3. By electronic mail (e-mail) to: FW7MMM@FWS.gov. Please submit comments as an ASCII file avoiding the use of special characters and any form of encryption. Please also include your name and return address in your message. If you do not receive a confirmation from the system that we have received your message, contact us directly at U.S. Fish and Wildlife Service, Office of Marine Mammals Management, 907-786-3810 or 1-800-362-5148.

4. By hand-delivery to: Office of Marine Mammals Management, U.S. Fish and Wildlife Service, 1011 East Tudor Road, Anchorage, AK 99503.

5. Through the Federal E-rulemaking Portal at: http://www.regulations.gov.

FOR FURTHER INFORMATION CONTACT: Craig Perham, Office of Marine Mammals Management, U.S. Fish and Wildlife Service, 1011 East Tudor Road, Anchorage, AK 99503; telephone 907-786-3810 or 1-800-362-5148; or e-mail craig_perham@FWS.gov.

SUPPLEMENTARY INFORMATION:

Background

Sections 101(a)(5)(A) and (D) of the MMPA, as amended, (16 U.S.C. 1371 (a)(5)(A) and (D)) authorize the Secretary of the Interior to allow, upon request, the incidental, but not intentional, taking of small numbers of marine mammals by U.S. citizens who engage in a specified activity (other than commercial fishing) within a specified geographical region provided that certain findings are made and either regulations are issued or, if the taking is limited to harassment, a notice of a proposed authorization is provided to the public for review and comment.

Authorization to incidentally take marine mammals may be granted if the Service finds that the taking will have a negligible impact on the species or stock(s), and will not have an unmitigable adverse impact on the availability of the species or stock(s) for subsistence uses. Permissible methods of taking and other means of effecting the least practicable impact on the species or stock and its habitat, and requirements pertaining to the monitoring and reporting of such takings are prescribed as part of the authorization process.

The term “take,” as defined by the MMPA, means to harass, hunt, capture, or kill, or attempt to harass, hunt, capture, or kill any marine mammal. Harassment, as defined by the MMPA, means “any act of pursuit, torment, or annoyance which, (i) has the potential to injure a marine mammal or marine mammal stock in the wild [the MMPA calls this Level A harassment], or (ii) has the potential to disturb a marine mammal or marine mammal stock in the wild by causing disruption of behavioral patterns, including, but not limited to, migration, breathing, nursing, breeding, feeding, or sheltering [the MMPA calls this Level B harassment].”

The terms “small numbers,” “negligible impact,” and “unmitigable adverse impact” are defined in 50 CFR 18.27, the Service's regulations governing take of small numbers of marine mammals incidental to specified activities. “Small numbers” is defined as “a portion of a marine mammal species or stock whose taking would have a negligible impact on that species or stock.” “Negligible impact” is defined as “an impact resulting from the specified activity that cannot be reasonably expected to, and is not reasonably likely to, adversely affect the species or stock through effects on annual rates of recruitment or survival.” “Unmitigable adverse impact” is defined as “an impact resulting from the specified activity (1) that is likely to reduce the availability of the species to a level insufficient for a harvest to meet subsistence needs by (i) causing the marine mammals to abandon or avoid hunting areas, (ii) directly displacing subsistence users, or (iii) placing physical barriers between the marine mammals and the subsistence hunters; and (2) that cannot be sufficiently mitigated by other measures to increase the availability of marine mammals to allow subsistence needs to be met.”

Section 101(a)(5)(D) of the MMPA established an expedited process by which citizens of the United States can apply for an authorization to incidentally take small numbers of marine mammals where the take will be limited to harassment. Section 101(a)(5)(D)(iii) establishes a 45-day time limit for Service review of an application followed by a 30-day public notice and comment period on any proposed authorizations for the incidental harassment of marine mammals. Within 45 days of the close of the comment period, the Service must either issue or deny issuance of the authorization. The Service refers to these authorizations as Incidental Harassment Authorizations (IHAs).

Summary of Request

On January 13, 2006, the Service received an application from Shell for the taking by harassment of Pacific walrus and polar bears incidental to conducting a seismic survey in the Chukchi Sea. Shell proposes to conduct a marine geophysical (deep seismic) survey program in support of future oil and gas exploration within the proposed Chukchi Sea Lease Sale 193. Leasing will occur in 2007. This activity is part of a comprehensive seismic program that includes conducting seismic operations in the Beaufort Sea as well. Incidental take authorization for the Beaufort Sea portion of Shell's program has been proposed under new regulations being proposed at 50 CFR part 18, subpart J (71 FR 14446; March 22, 2006). This overall seismic program is planned for the 2006 open-water season. Shell expects to conduct operations in the Chukchi Sea between July 15 and November 30, 2006. Scheduled transit time for Shell to the operational area is planned to begin June 15, 2006.

On February 10, 2006, the Service received an application from CPAI for the taking by harassment of Pacific walrus and polar bears incidental to conducting a seismic survey in the Chukchi Sea. CPAI also plans to conduct a deep seismic survey program in support of future oil and gas exploration within the proposed Chukchi Sea Lease Sale 193. CPAI plans to operate their seismic program between July 1 and November 30, 2006. Scheduled transit time for CPAI to the operational area is planned to begin June 1, 2006.

On February 10, 2006, the Service also received an application from GXT for the taking by harassment of Pacific walrus and polar bears incidental to conducting a seismic survey program in the Chukchi Sea in support of oil and gas exploration. Their seismic program is scheduled to occur between July 1 and November 30, 2006. GXT's project area includes portions of the Lease Sale 193 area as well as areas outside the lease sale but, within the Chukchi Sea.

All applicants are requesting authorization for incidental take by harassment of Pacific walrus and polar bear during seismic surveys occurring in various portions of the Chukchi Sea. Although the applicants' seismic survey programs have minor differences, such as in type (i.e., 2D and 3D), size of arrays, locations, timing, and support, the Service is consolidating the analysis of these separate requests because the activities are substantially the same in nature and the general area of operation requested by the applicants is identical. This also ensures that any overlapping of the effects of these programs will be identified and considered.

Description of the Activity

Shell Offshore, Inc.

Shell and its geophysical (seismic) contractor WesternGeco propose to conduct a deep seismic survey program during the 2006 open-water season on various U.S. Minerals Management Service (MMS) Outer Continental Shelf (OCS) lease blocks in the Northern Chukchi Sea (within Lease Sale 193). Shell is requesting an IHA for approximately 5.5 months (June 15 through mid-to late-November 2006). This seismic program would consist of deep seismic surveys conducted from WesternGeco's vessel M/V Gilivar and supported by the M/V Kilabuk for resupply and fueling. The M/V Gilivar is also capable of assisting in ice management operations if needed, but will not deploy seismic acquisition gear.

The general geographic region where the proposed deep seismic survey would occur is the Chukchi Sea MMS OCS Program Area designated as Chukchi Sea Lease Sale 193 and the proposed 2002-2007 Chukchi Sea Program Area. Shell has stated that, since the Chukchi deep seismic program would be conducted as a pre-lease activity, the exact locations where operations would occur remain confidential for business competitive reasons. Shell would use the seismic data acquired to determine what leases it would bid on in a forth-coming competitive lease sale. However, seismic acquisition would take place well offshore from the Alaska coast in OCS waters averaging greater than 40 meters (m) (130 feet [ft]) in depth.

Shell has proposed two possible survey scenarios in an effort to maximize its opportunities to acquire seismic information in 2006. Scenario I involves conducting seismic operations in the Chukchi and Beaufort seas during the 2006 open-water season. Scenario II involves conducting seismic operations only in the Chukchi Sea during the 2006 open-water season. Authorization for incidental take regarding the proposed seismic operations in the Beaufort Sea under Scenario I will be addressed in a separate request to the Service for a Letter of Authorization.

Under Scenario I, deep seismic surveys in the Chukchi Sea would take place in two phases. Phase one would commence after June 15, 2006, as sea ice coverage conditions allow and would continue through July to early August 2006. Phase two of the Chukchi Sea deep seismic survey would occur after mid-October and continue until such time as sea ice and weather conditions preclude further work, probably sometime in mid-to late-November 2006. Sea ice in this area is dynamic, therefore, the dates represent what might occur under ideal conditions for performing marine seismic work. The actual dates would depend on sea ice and weather conditions as they occur in summer and mid-autumn of 2006 and will not extend beyond the period identified here. Deep seismic data acquisition requires ice-free conditions for air gun and hydrophone streamer deployment and operation; thus both phases of the 2006 deep seismic program would have to occur during ice-free sea conditions. Also, the proposed commencement of the deep seismic survey would not occur earlier than June 15, 2006, even if marine conditions allow, since the timing is designed to ensure that there would be no conflict with the spring bowhead whale migration and the spring Chukchi subsistence hunts conducted by the Alaskan coastal villages of Point Hope, Wainwright, and Barrow.

Under Scenario II, in the event that sea ice prevents travel to the Beaufort Sea area by early August, Shell would continue its seismic acquisition program through the entire open-water season in the Chukchi Sea (June 15 through mid-to late-November 2006). This scenario would approximately double the seismic line miles completed in the Chukchi Sea. Under Scenario I, approximately 5,556 kilometers (km) (3,000 nautical miles [nm]) of seismic acquisition would occur in the Chukchi Sea, whereas under Scenario II, approximately 11,112 km (6,000 nm) of seismic line miles could be completed in the Chukchi Sea during the open-water season if operations in the Beaufort Sea were cancelled.

Source arrays for the 3D survey would be composed of identically tuned Bolt gun sub-arrays operating at 2,000 pounds per square inch (psi) air pressure. The signature produced by an array composed of multiple sub-arrays has the same shape as that produced by a single sub-array while the overall acoustic output of the array is determined by the number of sub-arrays employed. The gun arrangement for the 1,049 cubic inches (in ³) sub-array is detailed in Shell's application and is composed of three sub-arrays comprising a total 3,147 (in ³) sound source.

ConocoPhillips Alaska, Inc.

CPAI is planning to conduct open-water seismic data acquisition in the Chukchi Sea during the 2006 open-water season. CPAI seeks an IHA for a period of 5 months (July 1 through November 30, 2006). Mobilization of operations will occur in mid-July, and seismic operations are proposed to begin in late July and end in November, depending on ice conditions.

The scope of this application is limited to seismic exploration activities during the open-water season in Federal waters in the OCS of the Chukchi Sea, offshore Alaska. The geographic region of activity encompasses an area of 2,500 to 3,600 square (sq) km in the northeastern Chukchi Sea. The approximate boundaries of the region are within 158°00′ W and 169°00′ W and 69°00′ N and 73°00′ N, with the eastern boundary located parallel to the coast of Alaska, north of Point Hope to Point Barrow, and ranging 40-180 km off the coast. The nearest approximate point of the project to Point Hope is 74 km, Point Lay 90 km, Wainwright 40 km, and Barrow 48 km. Water depths are typically less than 50 m.

The goal of the project is to gather seismic data over 2,500 to 3,600 sq km, weather and ice conditions permitting. CPAI anticipates approximately 90-100 days of work effort with about 30 percent downtime due to constraints, such as weather, ice conditions, and repairs. The operation would be active 24 hours per day. The seismic vessel currently planned for use is the M/V Patriot, owned by WesternGeco. In addition to the primary activity of the seismic vessel, there would be two support vessels. A supply vessel and a fuel bunkering vessel would be used to supply the seismic vessel. The seismic crew would change out by helicopter, and fixed-wing aircraft support may be used to assess ice conditions if necessary.

The energy source for the proposed activity would be air gun array systems towed behind the vessel. There would be 6 to 8 cables approximately 4,000 m in length spaced 100 m apart. Each source array consists of identically tuned Bolt gun sub-arrays operating at 2,000 psi air pressure. The arrays will fire on interleaved 50-m intervals that are designed to focus energy in a downward direction. Two air-gun arrays, each approximately 1,695 in ³ in size and spaced approximately 50 m apart, would be used. Together, the two arrays would be approximately 3,390 in ³ in size. The airgun array would fire approximately every 25 m as the vessel travels at 4 to 5 knots. The sub-array is composed of six tuning elements: two 2-gun clusters and four single guns. The clusters have component guns arranged in a fixed side-by-side fashion with the distance between the gun ports set to maximize the bubble suppression effects of clustered guns. A near-field hydrophone is mounted about 1 m above each gun station (one phone is used per cluster), one depth transducer per position is mounted on the gun's ultrabox, and a high pressure transducer is mounted at the aft end of the sub-array to monitor high pressure air supply. All data from the sensors are transmitted to the vessel for input into the onboard systems and recording to tape.

GXT Corporation

GXT will conduct a marine seismic survey in the area of the MMS Lease Sale 193 in the Chukchi Sea. GXT expects the seismic vessel M/V Discoverer II to arrive at Dutch Harbor, Alaska, on or about June 15, 2006, for crew change and re-supply. Depending on ice conditions in the Chukchi Sea, the vessel would mobilize to arrive off Cape Lisburne and begin seismic acquisition as soon as possible. The expected starting date is on or about July 1, 2006.

There are two scenarios being planned dependant upon the seasonal ice conditions encountered in 2006. The primary scenario (and most expected) entails operations beginning in the Chukchi Sea until passage along the Beaufort Sea opens enough to allow seismic acquisition across the entire coast. The vessel would then proceed out of the Chukchi and begin operations within the Beaufort Sea area. Seismic acquisition could begin as early as July 21. The vessel would continue operations until all data are collected, or the new ice begins forming in the fall. It is then expected that the vessel would exit the Beaufort and complete any lines left in the Chukchi Sea until either the program is complete or weather and sea ice preclude further work. The open-water season is not expected to extend past November 30, 2006.

The second scenario would be enacted only if the sea ice does not move offshore in the Beaufort Sea and adequate areas of open water do not exist to allow collection of seismic data in the planned area. In that case, the vessel would continue operations in the Chukchi Sea until all programmed lines are collected. The vessel would then exit the area and transits to Dutch Harbor to demobilize.

GXT will gather data in the Chukchi Sea with the use of ultra-deep 2D lines that oil and gas companies use to better evaluate the evolution of the petroleum system at the basin-level, including identifying source rocks, migration pathways, and play types. In many cases, the availability of geoscience data will extend beyond seismic information to include magnetic, gravity, well log, and electromagnetic information, helping to illustrate the most comprehensive picture of the subsurface as possible.

The 2D data will be collected utilizing a towed, single streamer up to 9,000 m in length along with an airgun array towed directly behind a single vessel. The source vessel will tow a 40 G. gun array with a total discharge volume of 3,980 in³ along predetermined lines. The airgun array is discharged on a periodic basis and the streamer records the reflected sound waves. Since the goal is to record data from deep in the subsurface, the recording period runs from 15 to 18 seconds, depending on the area, with the airgun array being discharged approximately every 20 seconds. The array will be towed at approximately 50 m from the stern of the Discoverer II at a depth of approximately 8.5 m. As the airgun array is towed along the survey line, the towed hydrophone array receives the reflected signals and transfers the data to the on-board processing system. The 40 G. gun array will consist of 48 G. guns (24 × 2-G. gun pairs). Eight of those guns will not be activated but, will be included in the array and available as spare guns.

The vessel will proceed down a pre-plotted line collecting the data on a continuous basis until the required line is complete. Several segments of the single line may be required due to instrument failure, weather, or any other interruption that may occur. The grid of lines proposed by the applicant covers the entire Chukchi Sea area and ties together known wells, core locations, fault lines, and other geophysical points of interest.

The GXT seismic program will consist of 14 lines totaling 5,793 km (3,570 statute miles) of data acquisition for the Chukchi Sea area. The program will be based on a large grid of lines orientated to connect previous well locations, core sample locations, and geological structures in the sub-surface. Lines will be chosen based on factors such as, subsistence hunting, ice movement, and areas of geophysical importance. It is anticipated that all lines would be acquired under either of the two scenarios proposed. There is no plan to add mileage to this total, so the season would be complete for the Chukchi region when all 14 lines have been acquired.

Description of Habitat, Marine Mammals Affected by the Activity, and the Impact on Affected Marine Mammals

The geographic area covered by the request is the OCS of the Chukchi Sea adjacent to western Alaska. This area includes the waters and seabed of the Chukchi Sea, which encompasses all waters north of the Bering Strait that are east of the U.S.-Russia Convention Line of 1807, west of a north-south line at Point Barrow, and within 200 miles to the north of Point Barrow. This delineation of the Chukchi Sea includes the Chukchi Seas Lease Sale 193, scheduled for leasing in 2007.

Biological Information

Pacific Walrus

Stock Definition and Range

The Pacific walrus (Odobenus rosmarus divergens) is represented by a single stock of animals that inhabits the shallow continental shelf waters of the Bering and Chukchi seas. The population ranges across the international boundaries of the United States and Russia, and both nations share common interests with respect to the conservation and management of this species.

The distribution of Pacific walrus varies markedly with the seasons. During the late winter breeding season, walrus are found in areas of the Bering Sea where open leads, polynas, or areas of broken pack-ice occur. Significant winter concentrations are normally found in the Gulf of Anadyr, the St. Lawrence Island Polyna, and in an area south of Nunivak Island. In the spring and early summer, most of the population follows the retreating pack-ice northward into the Chukchi Sea; however, several thousand animals, primarily adult males, remain in the Bering Sea, utilizing coastal haulouts during the ice-free season. During the summer months, walrus are widely distributed across the shallow continental shelf waters of the Chukchi Sea. Significant summer concentrations are normally found in the unconsolidated pack-ice west of Point Barrow, and along the northern coastline of Chukotka in the vicinity of Wrangel Island. As the ice edge advances southward in the fall, walrus reverse their migration and re-group on the Bering Sea pack-ice.

Population Status

Several decades of intense commercial exploitation in the late 1800s and early 1900s left the population severely depleted. Fay et al. (1997) reviewed the results of aerial surveys conducted between 1960 and 1985 and concluded that the population had increased from 50,000-100,000 animals in the late 1950s to more than 250,000 animals by 1985. They attributed this rapid population growth to hunting restrictions enacted in the United States and Russia that reduced the size of the commercial harvest and provided protection to female walrus and calves. Information concerning population size and trend after 1985 is less certain. An aerial survey flown in 1990 produced a population estimate of 201,039 animals; however, large confidence intervals associated with that estimate precluded any conclusions concerning population trend (Gilbert et al. 1992). The current size and trend of the Pacific walrus population are unknown, but the 1990 figure is considered conservative. In 2006, the Service and USGS, in partnership with Russian scientists, will conduct a range-wide survey to estimate population size.

Habitat and Prey

Walrus rely on floating pack-ice as a substrate for resting and giving birth. Walrus generally require ice thicknesses of 50 centimeters (cm) or more to support their weight. Although walrus can break through ice up to 20 cm thick, they usually occupy areas with natural openings and are not found in areas of extensive, unbroken ice. Thus, their concentrations in winter tend to be in areas of divergent ice flow or along the margins of persistent polynas. Concentrations in summer tend to be in areas of unconsolidated pack-ice, usually within 100 km of the leading edge of the ice pack. The juxtaposition of ice over appropriate depths for feeding is especially important for female walrus with dependent young that may not be capable of deep diving or of long-term exposure in the water. Walrus resting on the ice are passively transported to other feeding areas, which may help to prevent local depletions of their prey resource.

When suitable pack-ice is not available, walrus haul out to rest on land. Isolated sites, such as barrier islands, points, and headlands, are most frequently occupied. Social factors, learned behavior, and proximity to their prey base are also thought to influence the location of haulout sites. Traditional walrus haulout sites in the eastern Chukchi Sea include Cape Thompson, Cape Lisburne and Icy Cape. In recent years, the Cape Lisburne haulout site has seen regular use in late summer. Numerous haulouts exist along the northern coastline of Chukotka, including Wrangel and Herald islands, which are considered important hauling grounds in September, especially in years when the pack-ice retreats far to the north.

Although capable of diving to deeper depths, walrus are for the most part found in shallow waters of 100 m or less, possibly because of higher productivity of their benthic foods in shallower water. They feed almost exclusively on benthic invertebrates although Native hunters have also reported incidences of walrus preying on seals. Prey densities are thought to vary across the continental shelf according to sediment type and structure. Preferred feeding areas are typically composed of sediments of soft, fine sands. Foraging trips may last for several days, during which time they dive to the bottom nearly continuously. Most foraging dives to the bottom last between 5 and 10 minutes, with a relatively short (1-2 minute) surface interval. The intensive tilling of the sea floor by foraging walrus is thought to have significant influence on the ecology of the Bering and Chukchi Seas. Foraging activity recycles large quantities of nutrients from the sea floor back into the water column, provides food for scavenger organisms, and contributes greatly to the diversity of the benthic community.

Life History

Walrus are long-lived animals with low rates of reproduction. Females reach sexual maturity at 4-9 years of age. Males become fertile at 5-7 years of age; however, they are usually unable to compete for mates until they reach full physical maturity at 15-16 years of age. Breeding occurs between January and March in the pack-ice of the Bering Sea. Calves are usually born in late April or May the following year during the northward migration from the Bering Sea to the Chukchi Sea. Calves are capable of entering the water shortly after birth, but tend to haulout frequently, until their swimming ability and blubber layer are well developed. Calves weigh about 63 kg (139 lb) at birth. Walrus calves accompany their mother from birth and are usually not weaned for 2 years or more. Females with newborn young often join together to form large nursery herds. Summer distribution of females and young walrus is closely tied to the movements of the pack-ice relative to feeding areas. Females give birth to one calf every two or more years. This reproductive rate is much lower than other pinnipeds; however, some walrus may live to age 35-40 and remain reproductively active until relatively late in life.

Walrus are extremely social and gregarious animals. They tend to travel in groups and haulout onto ice or land in groups. Walrus spend approximately one-third of their time hauled out onto land or ice. Hauled-out walrus tend to lie in close physical contact with each other. Youngsters often lie on top of the adults. The size of the hauled out groups can range from a few animals up to several thousand individuals.

Mortality

Polar bears (Ursus maritimus) are known to prey on walrus calves, and killer whales (Orcinus orca) have been known to take all age classes of animals. Predation levels are thought to be highest near terrestrial haulout sites where large aggregations of walrus can be found; however, few observations exist for off-shore environs.

Pacific walrus have been hunted by coastal Natives in Alaska and Chukotka for thousands of years. Exploitation of walrus by Europeans has also occurred in varying degrees since first contact. Presently, walrus hunting in Alaska and Chukotka is restricted to meet the subsistence needs of aboriginal peoples. The Service, in partnership with the Eskimo Walrus Commission (EWC) and the Association of Traditional Marine Mammal Hunters of Chukotka, administers subsistence harvest monitoring programs in Alaska and Chukotka. Harvest mortality over the past 5 years (2000-2005) is estimated at 5,458 walrus per year (Table 1). This mortality estimate includes corrections for under-reported harvest and struck and lost animals.

Intraspecific trauma is also a known source of injury and mortality. Disturbance events can cause walrus to stampede into the water and have been known to result in injuries and mortalities. The risk of stampede-related injuries increases with the number of animals hauled out. Calves and young animals at the perimeter of these herds are particularly vulnerable to trampling injuries.

Table 1.—Total Corrected Subsistence Harvest of Pacific Walrus, 2001-2005
Year | Reported Russia harvest | Reported U.S. harvest* | Total reported harvest | Total corrected harvest**
2001 | 1,332 | 1,843 | 3,175 | 5,474
2002 | 1,317 | 2,236 | 3,553 | 6,126
2003 | 1,425 | 2,175 | 3,600 | 6,207
2004 | 1,118 | 1,481 | 2,599 | 4,481
2005 | 1,470 | 1,430 | 2,900 | 5,000
Mean 2001-2005 | 1,332 | 1,833 | 3,165 | 5,458
* Corrected for non-compliance with the Marking, Tagging, and Reporting Program.
** Total corrected harvest = total reported harvest + 42 percent struck and lost (mortally wounded but not recovered).

Distributions and Abundance in the Chukchi Sea and Lease Sale 193 Area

Walrus are seasonably abundant in the Chukchi Sea and Lease Sale 193 Area. Their distribution is largely influenced by the extent of the seasonal pack-ice. In May and June, most of the population migrates through the Bering Strait into the Chukchi Sea. Walrus tend to migrate into the Lease Sale Area along lead systems that develop along the northwest coast of Alaska. Walrus are expected to be closely associated with the southern edge of the seasonal pack-ice during the proposed operating season. By July, large groups of walrus, up to several thousand animals, can be found along the edge of the pack-ice between Icy Cape and Point Barrow. During August, the edge of the pack-ice generally retreats northward to about 71°N, but in light ice years, the ice edge may retreat beyond 76°N. The sea ice normally reaches its minimum (northern) extent in September. It is unclear how walrus respond in years when the sea ice retreats beyond the relatively shallow continental shelf waters. At least some animals are thought to migrate west towards Chukotka, while others have been observed hauling out along the shoreline between Point Barrow and Cape Lisburne. The pack-ice rapidly advances southward in October, and most animals are thought to have returned to the Bering Sea by early November.

A recent abundance estimate for the number of walrus present in the Chukchi Sea, including the Lease Sale 193 Area during the proposed operating season is lacking. Johnson et al. (1980) estimated 101,213 walrus hauled-out onto Chukchi Sea pack-ice, east of 172°30′ W, in September 1980. Gilbert (1989) estimated 62,177 walrus were distributed in the Chukchi Sea pack-ice in the eastern Chukchi Sea in September 1985. Gilbert et al. (1992) estimated 16,489 walrus were distributed in the Chukchi sea pack-ice between Wrangel Island and Point Barrow in September 1990, but the authors also noted that the pack-ice was distributed well beyond the continental shelf at the time of the survey. These abundance estimates are all considered conservative because no corrections were made for walrus in water (not visible) at the time of the surveys.

Polar Bear

Stock Definition and Range

Polar bears occur throughout the Arctic. In Alaska, they have been observed as far south in the eastern Bering Sea as St. Matthew Island and the Pribilof Islands, but they are most commonly found within 180 miles of the Alaskan coast of the Chukchi and Beaufort Seas, from the Bering Strait to the Canadian border. Two stocks occur in Alaska: (1) The Bering-Chukchi Seas stock; and (2) the Southern Beaufort Sea stock. The Chukchi/Bering seas stock is defined as polar bears inhabiting the area as far west as the eastern portion of the Eastern Siberian Sea, as far east as Point Barrow, and extending into the Bering Sea, with its southern boundary determined by the extent of annual ice. The world population estimate of polar bears ranges from 20,000-25,000 individuals (International Union for the Conservation of Nature and Natural Resources 2006). The Southern Beaufort Sea stock estimate is 2,200 animals. Previous population estimates have put the Chukchi/Bering sea population at 2,000 to 5,000; however, currently, a reliable population estimate is not available for the Bering-Chukchi Sea polar bear stock.

Habitat

Polar bears of the Chukchi Sea are subject to the movements and coverage of the pack-ice. The most extensive north-south movements of polar bears are associated with the spring and fall ice movement. For example, during the 2006 ice-covered season, numerous bears radio-collared in the Beaufort Sea were located in the Chukchi and Bering Seas as far south as 59° latitude. Summer movements tend to be less dramatic due to the reduction of ice habitat. Summer distribution is somewhat dependent upon the location of the ice front; however, polar bears are accomplished swimmers and are often seen on floes separated from the main pack-ice. Therefore, bears can appear at any time in what can be called “open water.” The summer ice pack can be quite disjunct and segments can be driven by wind great distances carrying polar bears with them. Bears from both stocks overlap in their distribution around Point Barrow and can move into surrounding areas depending on ice conditions.

Polar bears spend most of their time in nearshore, shallow waters over the productive continental shelf associated with the shear zone and the active ice adjacent to the shear zone. Sea ice and food availability are two important factors affecting the distribution of polar bears.

Denning and Reproduction

Although insufficient data exist to accurately quantify polar bear denning along the Alaskan Chukchi Sea coast, dens in the area are less concentrated than for other areas in the Arctic. The majority of denning of Chukchi Sea polar bears occurs on Wrangel Island, Herald Island, and certain locations on the northern Chukotka coast. Females without dependent cubs breed in the spring. Females can initiate breeding at 5 to 6 years of age. Females with cubs do not mate. Pregnant females enter maternity dens by late November, and the young are usually born in late December or early January. Only pregnant females den for an extended period during the winter; other polar bears may excavate temporary dens to escape harsh winter winds. An average of two cubs are usually born, and after giving birth, the female and her cubs remain in the den where the cubs are nurtured until they can walk. Reproductive potential (intrinsic rate of increase) is low. The average reproductive interval for a polar bear is 3 to 4 years, and a female polar bear may produce about 8 to 10 cubs in her lifetime; 50 to 60 percent of the cubs will survive. Female bears can be quite sensitive to disturbances during this denning period.

In late March or early April, the female and cubs emerge from the den. If the mother moves young cubs from the den before they can walk or withstand the cold, mortality to the cubs may increase. Therefore, it is thought that successful denning, birthing, and rearing activities require a relatively undisturbed environment. Radio and satellite telemetry studies elsewhere indicate that denning can occur in multi-year pack-ice and on land.

Prey

Greater than 90 percent of a polar bear's diet is ringed seals (Phoca hispida). Bearded seals (Erignathus barbatus) and walrus calves are hunted occasionally. Polar bears opportunistically scavenge marine mammal carcasses, and there are reports of polar bears killing beluga whales (Delphinapterus leucas) trapped in the ice. Polar bears are also known to eat nonfood items including styrofoam, plastic, antifreeze, and hydraulic and lubricating fluids.

Polar bears hunt seals along leads and other areas of open water, or by waiting at a breathing hole, or by breaking through the roof of a seal's lair. Lairs are excavated in snow drifts on top of the ice. Bears also stalk seals in the spring when they haul out on the ice in warm weather. The relationship between ice type and bear distribution is as yet unknown, but it is suspected to be related to seal availability.

Life History

Both fur and fat are important to polar bears for insulation in air and water. Cubs-of-the-year must accumulate a sufficient layer of fat in order to maintain their body temperature when immersed in water. It is unknown to what extent young cubs can withstand exposure in water before they are threatened by hypothermia. Polar bears groom their fur to maintain its insulative value. Polar bears are long-lived (up to 30 years) and have no natural predators, and they do not appear to be prone to death by diseases or parasites. Cannibalism by adult males on cubs and occasionally on other bears is known to occur.

Mortality

The most significant source of mortality is man. Before the MMPA was passed in 1972, polar bears were taken by sport hunters and residents. Between 1925 and 1972, the mean reported kill was 186 bears per year. Seventy-five percent of these were males, as cubs and females with cubs were protected. Since 1972, only Alaska Natives have been allowed to hunt polar bears for their subsistence uses or for handicraft and clothing items for sale. The Native hunt occurs without restrictions on sex, age, or number provided that the population is not determined to be depleted. From 1980 to 2005, the total annual harvest for Alaska averaged 101 bears: 64 percent from the Chukchi Sea and 36 percent from the Beaufort Sea. Barrow, Point Hope, Point Lay, and Wainwright are communities within the area potentially affected by seismic activities. The total harvest of bears by these communities during the 10-year period of 1995 to 2005 was as follows: Barrow (228 bears), Point Hope (136 bears), Point Lay (25 bears), and Wainwright (77 bears). Table 2 provides long-term and annual data on polar bear harvests for the villages within the area. Bears are generally harvested between the months of January to May, with May the month when most bears are harvested. Annually, the lowest numbers of polar bears are harvested between June and September.

Table 2.—Native Subsistence Polar Bear Harvest Estimates by Year and Village
Village | 1988-1999 | 2000/2001 | 2001/2002 | 2002/2003 | 2003/2004 | 2004/2005
Barrow | 238 | 28 | 25 | 25 | 20 | 10
Wainwright | 88 | 10 | 2 | 5 | 13 | 5
Point Lay | 21 | 1 | 1 | 1 | 3 | 4
Point Hope | 155 | 15 | 9 | 12 | 10 | 9
Based upon USFWS polar bear harvest data. Harvest year extends from July 1 to June 30.

Potential Impacts of Operations and Associated Activities on Marine Mammals

Pacific Walrus

Seismic exploration activities in the Chukchi Sea have the potential to impact walrus in a number of ways. Air and vessel traffic may cause herds to stampede. Noise from air traffic, seismic surveys, icebreakers, and supply ships may displace individuals and herds. The quantity and quality of walrus prey could be affected by contamination of the benthos from operational petroleum spills.

Disturbances caused by vessel and air traffic may cause walrus groups to abandon land or ice haulouts. Severe disturbance events could result in trampling injuries or cow-calf separations, both of which are potentially fatal.

Open-water seismic exploration produces underwater sounds, typically with airgun arrays. Although the hearing sensitivity of walrus is poorly known, some source levels are thought to be high enough to cause temporary hearing loss in other species of pinnipeds. Therefore, it is possible that walrus within the 190-decibel (dB re 1 μPa) safety radius sound cone of seismic activities (Industry standard safety criterion for seals, which operates as the limit for potential injury) could suffer temporary shifts in hearing threshold and temporary hearing loss. Conversely, the 160-decibel (dB re 1 μPa) sound level is the limit of assumed behavioral harassment where animals may react to the sound source by avoiding the area.

Noise from air traffic, vessel traffic, and seismic operations resulting in harassment has the potential to disturb or displace walrus up to several kilometers from the sound source. Potential effects of prolonged or repeated disturbances include displacement from preferred feeding areas, increased stress levels, increased energy expenditure, masking of communication, and the impairment of thermoregulation of neonates that spend too much time in the water.

The response of walrus to noise disturbance stimuli is highly variable, from avoidance to tolerance. Studies have shown that pinnipeds appear to be less responsive to noise than other marine mammals. Anecdotal observations by walrus hunters and researchers suggest that males tend to be more tolerant of disturbances than females and individuals tend to be more tolerant than groups. Females with dependent calves are considered least tolerant of disturbances. Walrus in the water are thought to be more tolerant to disturbance stimuli than those hauled out.

Quantitative research on the sensitivity of walrus to noise has been limited because no audiograms (a test to determine the range of frequencies and minimum hearing threshold) have been done on walrus. Hearing sensitivity is assumed to be within the 13 Hz and 1,200 Hz range of their own vocalizations. Walrus hunters and researchers have also noted that walrus tend to react to the presence of humans and machines at greater distances from upwind approaches than from downwind approaches, suggesting that odor may also be a stimulus for a flight response. The visual acuity of walrus is thought to be less than for other species of pinnipeds.

Reactions to aircraft are thought to vary with aircraft type, range, and flight pattern, as well as walrus age, sex, and group size. Fixed-winged aircraft are less likely to elicit a response than helicopter overflights. Walrus are particularly sensitive to changes in engine noise and are more likely to stampede when planes turn or fly low overhead. Researchers conducting aerial surveys for walrus in sea ice habitats have observed little reaction to aircrafts above 1,000 ft (305 m).

The reaction of walrus to vessel traffic appears to be dependent upon vessel type, distance, speed, and previous exposure to disturbances. Underwater noise from vessel traffic in the Chukchi Sea may “mask” ordinary communication between individuals. Other factors, such as weather and length of time hauled out, may also contribute to the response. Ice management operations are expected to have the greatest potential for disturbances since these operations typically require the vessel to accelerate, reverse direction, and turn rapidly, activities that maximize propeller cavitation and resulting noise levels. However, researchers on board an icebreaker during ice management operations observed little to no reaction of hauled-out walrus groups beyond 0.5 mile (800 m). Furthermore, ship-board monitoring and mitigation measures for ice management, such as “ice scouting,” will indirectly limit encounters between vessels and walrus hauled out on ice floes.

Seismic operations are expected to create significantly more noise than general vessel and icebreaker traffic; however, there are no data available to evaluate the potential response of walrus to seismic operations. Studies in the Beaufort Sea based on visual monitoring from seismic vessels show that pinnipeds exhibit minimal avoidance of airguns, and slight changes in behavior. These studies show that pinnipeds frequently do not avoid the area within a few hundred meters of an operating airgun array. However, visual studies have their limitations and initial work suggests that avoidance and other behavioral reactions may be stronger than evident to date from visual studies.

For the purpose of this IHA, the Service will consider sound levels greater than 160 dB as the criterion for the onset of behavioral harassment, which is based on criteria developed for other pinniped species. Marine mammal monitoring programs are expected to provide further insight to the response of walrus to various seismic operations from which future mitigative conditions can be developed.

Polar Bear

Seismic exploration activities in the Chukchi Sea may affect polar bears in a number of ways. Seismic ships and icebreakers may be physical obstructions to polar bear movements, although these impacts are of short-term and localized effect. Noise, sights, and smells produced by exploration activities may repel or attract bears, either disrupting their natural behavior or endangering them by threatening the safety of seismic personnel.

Little research has been conducted on the effects of noise on polar bears. Polar bears are curious and tend to investigate novel sights, smells, and possibly noises. Noise produced by seismic activities could elicit several different responses in polar bears. Noise may act as a deterrent to bears entering the area of operation, or noise could potentially attract curious bears. Underwater noises produced by exploration are probably not a relevant form of disturbance because bears spend most of their time on the ice or at the surface of the water. Polar bears normally swim with their heads above the surface, where underwater noises are weak or undetectable. Polar bears are known to run from sources of noise and the sight of vessels or icebreakers and aircraft, especially helicopters. The effects of fleeing from aircraft may be minimal if the event is short and the animal is otherwise unstressed. On a warm spring or summer day, a short run may be enough to overheat a well-insulated polar bear. Likewise, fleeing from a working icebreaker may have minimal effects for a healthy animal on a cool day.

In the Chukchi Sea, during the open-water season, polar bears spend the majority of their time on pack-ice, which limits the chance of impacts from human and industry activities. Occasionally, polar bears can be found in open water, miles from the ice edge or ice floes.

Vessel traffic could result in short-term behavioral disturbance to polar bears. During the open-water season, most polar bears remain offshore in the pack-ice and are not typically present in the area of vessel traffic. If a ship is surrounded by ice, it is more likely that curious bears will approach. Any on-ice activities required by exploration activities create the opportunity for bear'human interactions. In relatively ice-free waters, polar bears are less likely to approach ships, although bears may be encountered on ice floes. For example, during the late 1980s, at the Belcher exploration drilling site in the Beaufort Sea, in a period of little ice, a large floe threatened the drill rig at the site. After the floe was moved by an icebreaker, workers noticed a female bear with a cub-of-the-year and a lone adult swimming nearby. It was assumed these bears had been disturbed from the ice floe.

Ships and icebreakers may act as physical obstructions in the spring during the start-up period for exploration if they transit through a restricted lead system, such as the Chukchi Polynya. Polynyas are important habitat for marine mammals, which makes them important hunting areas for polar bears. Ship traffic in these ice conditions may intercept or alter movements of bears. A similar situation could occur in the fall when the pack-ice begins to expand.

Routine aircraft traffic should have little to no effect on polar bears; however, extensive or repeated overflights of fixed-wing aircraft or helicopters could disturb polar bears. Behavioral reactions of polar bears should be limited to short-term changes in behavior that would have no long-term impact on individuals and no impacts on the polar bear population.

Potential Impacts on Subsistence Needs

Pacific Walrus

Pacific walrus are a valuable subsistence resource utilized by coastal Alaska Natives. For thousands of years, walrus hunting has been an important source of food and raw materials for equipment and handicrafts. Today, walrus hunting remains an important part of the culture and economy of many coastal villages in Alaska. The communities most likely to be impacted by the proposed activities are Point Hope, Point Lay, Wainwright, and Barrow.

Point Hope hunters typically begin their hunt in late May and June as walrus migrate north into the Lease Sale 193 Area. The sea ice is usually well off shore of Point Hope by July and does not bring animals back into the range of hunters until late August and September. Between 2000 and 2006, the average annual reported harvest at Point Hope was 11 animals per year (Table 3).

Walrus hunting in Point Lay occurs primarily in July. Point Lay hunters reported an average of 6.2 walrus per year between 2000 and 2004 (Table 3).

Wainwright residents hunt walrus from June through August as the ice retreats northward. Walrus are plentiful in the pack-ice near the village this time of year. Wainwright hunters have consistently harvested more walrus than any other subsistence community on the North Slope. The village averaged 62.2 animals per year for 2000-2004 (Table 3).

Barrow is the northernmost community near the project area. Most walrus hunting occurs from June through September, peaking in August, when the land-fast ice breaks up and hunters can access the walrus by boat as they migrate north on the retreating pack-ice. The average annual walrus harvest for Barrow from 2000 to 2004 was 31.8 animals (Table 3).

Table 3.—Native Subsistence Walrus Harvest Estimates by Year and Village
Village | 1988-1999 | 2000 | 2001 | 2002 | 2003 | 2004
Barrow | 228 | 19 | 36 | 39 | 51 | 14
Wainwright | 508 | 36 | 93 | 118 | 29 | 35
Point Lay | 31 | 6 | 3 | 10 | 10 | 2
Point Hope | 36 | 6 | 2 | 15 | 12 | 20
Based upon walrus reported through the USFWS Marking, Tagging, and Reporting Program. Walrus harvest data for 2005 is not presently available. Harvest totals are not corrected for struck and lost animals.

Any activity that displaces walrus beyond the range of coastal hunters has the potential to adversely impact subsistence harvests in these communities. Walrus hunting may occur anywhere along the Chukchi Sea coastline from Cape Lisburne to Point Barrow. Walrus hunting from these communities is generally limited to conditions when sea ice occurs within the range of small hunting boats, typically less than 30 miles from shore.

Little information is available to predict the effects of offshore activities on subsistence walrus hunting; however, walrus hunting occurs primarily in pack-ice and it is unlikely that open-water seismic activities would have a significant impact on subsistence harvest opportunities. As described in the section on standard operational conditions, the Service will require Shell, CPAI, and GXT to consult with affected communities and the EWC, as appropriate, to identify measures to minimize any potential impact to subsistence hunters in the affected communities.

Polar Bear

Depending upon ice conditions, the subsistence harvest of polar bears can occur year-round in the northern Chukchi Sea villages, with peaks in the spring and winter. The period with the lowest harvest of bears occurs in June and July. Hunting success varies considerably from year to year because of variable ice and weather conditions.

Little information is available for predicting the effects of offshore activities on subsistence polar bear hunting in the Chukchi Sea; however, direct conflicts are unlikely to occur between polar bear hunters and seismic activities because the timing of polar bear hunting occurs primarily during the winter and spring when pack-ice is present nearshore and the seismic activities will occur in the summer and fall open-water seasons. As described in the section on standard operational conditions, the Service will require Shell, CPAI, and GXT to consult with affected communities, as appropriate, to identify measures to be taken to minimize any potential impact to subsistence hunters in the affected communities.

Basis for Findings

Negligible Impact on Species

Our findings of negligible impact were based on the total level of activity described by each applicant and the Service's analysis of the effects of all activities. In making this finding, we considered the following: (1) The distribution of the species; (2) the biological characteristics of the species; (3) the nature of seismic programs; (4) the potential effects of seismic programs on the species; and (5) the documented impacts of seismic activities on the species.

Vessels associated with seismic activities plan to travel in open water to avoid ice floes, which is where walrus are likely to be found. Furthermore, walrus are not uniformly distributed across the proposed study area. The proposed seismic operations would not be concentrated in any location for extended periods. Therefore, most of the proposed activities would occur in areas of open water where walrus densities are expected to be relatively low. Based on the proposed activities and the distribution of walrus, we find that takes are likely to be limited to harassment of a relatively small number of animals and of relatively short-term in duration. Therefore, the proposed activities are not reasonably likely to adversely affect the Pacific walrus or the Pacific walrus stock through effects on annual rates of recruitment or survival.

The number of polar bears present in the open water of the Chukchi Sea during the time of seismic activity will also be minimal. Individual polar bears may be observed in the open water during seismic activities, but the majority of the population will be found on the pack-ice during this time of year and, again, seismic activities avoid ice floes and the pack-ice edge. The Service anticipates that potential impacts of seismic activities on polar bears would be limited to short-term changes in behavior and would have no long-term impact on individuals or impacts to the polar bear population. Therefore, we find that the proposed seismic activities are not reasonably likely to adversely affect polar bears or the Chukchi polar bear stock through effects on annual rates of recruitment or survival.

Based on our review of these factors, we conclude that, while incidental harassment of polar bears and walrus is reasonably likely to or reasonably expected to occur as a result of proposed activities, the overall impact would be negligible on polar bear and Pacific walrus populations. In addition, we find that any takes are likely to be limited to Level B harassment of a relatively small number of animals and of relatively short-term in duration. Furthermore, we do not expect the anticipated level of harassment from these proposed activities to affect the rates of recruitment or survival of Pacific walrus and polar bear populations.

We also considered the specific Congressional direction in balancing the potential for a significant impact with the likelihood of that event occurring. The specific Congressional direction that describes evaluating the probability of occurrence with the level of impact follows:

If potential effects of a specified activity are conjectural or speculative, a finding of negligible impact may be appropriate. A finding of negligible impact may also be appropriate if the probability of occurrence is low but the potential effects may be significant. In this case, the probability of occurrence of impacts must be balanced with the potential severity of harm to the species or stock when determining negligible impact. In applying this balancing test, the Service will thoroughly evaluate the risks involved and the potential impacts on marine mammal populations. Such determination will be made based on the best available scientific information [53 FR 8474; accord, 132 Cong. Rec. S 16305 (Oct. 15, 1986)].

Our finding applies to the proposed seismic programs by Shell, CPAI, and GXT that would occur in the Chukchi Sea region during the 2006 open-water season. If the proposed activities are authorized, standard operational conditions would be attached to each authorization. These conditions minimize interference with normal breeding, feeding, and migration patterns.

Impact on Subsistence

Based on the results of harvest data, including affected villages, the number of animals harvested, the season of the harvests, and the location of hunting areas, we find that the effects of the proposed seismic activities in the Chukchi Sea region would not have an unmitigable adverse impact on the availability of polar bears and Pacific walrus for taking for subsistence uses during the period of the activities. In making this finding, we considered the following: (1) Records on subsistence harvest from the Service's Marking, Tagging, and Reporting Program (historical data regarding the timing and location of harvests) and (2) anticipated effects of the applicants' proposed activities on subsistence hunting.

Most subsistence walrus hunting occurs in pack-ice areas, which are areas typically avoided by seismic operations. Although walrus hunters may encounter support vessels and aircraft in open-water areas, these interactions are expected to be limited in area and duration and are not expected to affect overall hunting success. Therefore, we find that the proposed seismic activities will not have an unmitigable adverse impact on the availability of walrus for subsistence uses.

Only a small fraction of the polar bear harvest occurs during the open-water season. In addition, most polar bears are harvested outside of the area that would be covered by this authorization. Because the polar bear is hunted almost entirely during the ice-covered season, it is unlikely that open-water seismic activities would have any effect on the harvest of that species. The Service anticipates that the effect of these seismic activities on the availability of polar bears to subsistence hunters would be very low if it were to occur at all. Therefore, we find that the proposed seismic activities would not have an unmitigable adverse impact on the availability of polar bears for subsistence uses.

Standard Operational Conditions

The following measures will ensure that the least practicable impact on Pacific walrus and polar bear and on the availability of these species or stocks for taking for subsistence uses. These measures are not necessary to arrive at our conclusion that these activities will have a negligible impact on these species or stocks or our conclusion that the activities will not have unmitigable adverse impact on the availability of the species for subsistence purposes.

Conditions that will be required to minimize the potential for harassment include the following:

(1) Seismic and support vessels must observe a 0.5-mile (800-m) exclusion zone around walrus and polar bears observed on land or ice.

(2) Aircraft will be required to maintain a 1,000-ft (300-m) minimum altitude within 0.5 mile (800-m) of hauled out walrus and polar bears.

(3) Seismic operations will cease if walrus are sighted within a 190 dB acoustical safety radius.

(4) No seismic activities will take place in the Chukchi Sea before June 1, 2006. This prohibition would limit interference from seismic activities when marine mammals are concentrated in association with the spring lead system. This condition considers transit to and from activity sites as part of seismic activity, especially when support vessels mobilize into the Chukchi Sea for the purpose of seismic exploration.

(5) Each activity would require a final walrus/polar bear monitoring plan that is approved by the Service. The purpose of the plan would be to monitor the effects of the activity on polar bears and walrus in the areas of seismic exploration. The monitoring plan would be approved by the Service prior to issuance of the incidental harassment authorization and will be incorporated as a condition of the IHA. These plans would require ship-board trained marine mammal observers. During seismic operations, on-board marine mammal observers will monitor the zone of ensonification (i.e., the area around the seismic vessel exposed to certain sound propagation levels from the source arrays) for polar bears and walrus. If a polar bear or walrus is sighted in the ensonification zone, operations will cease until animals move out of the zone.

(6) Each applicant will be required to develop a Service-approved site-specific polar bear and walrus interaction plan prior to initiation of activities. These plans outline the contingency steps that the applicant will take, such as the chain of command for reporting and responding to polar bear or walrus sightings.

(7) Ice management mitigation measures, i.e., “ice scouting,” such as radar, satellite imagery, and reconnaissance flights using scheduled aircraft to monitor ice movement in the projected survey areas 24 to 48 hours prior to seismic activity, may be required to be instituted during activities in response to ice movement. These measures have a dual purpose since they are important for the proper acquisition of seismic data, as well as delineating the presence and abundance of polar bears and walrus in the area. They will also serve to limit the distance to ice due to seismic program protocols and thus limit the potential for walrus and polar bear encounters.

Conditions that will be required to minimize potential impacts on subsistence walrus and polar bear hunting include the following:

(1) Seismic activity will be deferred during the spring migration through opening leads. This will ensure that the leads have deteriorated and that there is ample open water to allow walrus free movement to avoid support traffic and transit time of seismic vessels. Seismic activities would be confined to the open-water season, which will not exceed the period of July 1 to November 30. This should allow the villages to participate in subsistence hunts for polar bears without interference and to minimize impacts to walrus during migration.

(2) No seismic activities will occur within a 40-mile radius of affected communities. This condition will limit potential interactions with walrus hunters in near-shore environments.

(3) Applicants will be required to contact and consult with the communities of Point Hope, Point Lay, Wainwright, and Barrow to identify any additional measures to be taken to minimize adverse impacts to subsistence hunters in these communities. Prior to receipt of an IHA, applicants must provide evidence to the Service that, if warranted, a Plan of Cooperation (POC) has been presented to the subsistence communities. A POC will be developed if there is concern from the community that the activities will impact subsistence uses of Pacific walrus and polar bears. The POC must address how applicants will work with the affected Native communities and what actions will be taken to avoid interference with subsistence hunting of walrus and polar bear. The Service will review the POC to ensure any potential adverse effects on the availability of the animals are minimized.

Monitoring

A plan for monitoring the effects of seismic exploration on polar bears and walrus that has been reviewed and approved by the Service is required of all applicants receiving an IHA. In addition, the Service recognizes that other opportunities for the Service, and possibly the applicant, to cooperatively conduct research that may resolve other deficiencies in knowledge of walrus and polar bear populations and habitat requirements may occur outside of the IHA process. Such research would be related to acquiring data necessary to understand the effects of exploratory activities for oil and gas, including their effects on walrus and polar bear.

The purpose of monitoring programs is to determine short-term and long-term direct, indirect, and cumulative effects of authorized activities on polar bears and walrus in the Chukchi Sea. Plans must identify the methods that will be used to determine and assess the effect on the movements, behavior, and habitat use of polar bears and walrus in response to seismic activity.

Monitoring programs may be required to answer some basic biological questions as a necessary step toward understanding the relationships between the proposed activity and the species' survival, productivity, and habitat requirements. The basic elements of the monitoring programs are to determine and report when, where, how and how many marine mammals, by species, age/size, and sex, are taken in the course of authorized exploration activities and to verify the nature and level of take. Methods and techniques to detect possible longer-term changes and trends in abundance, distribution, and productivity of populations of affected species should be developed. However, the responsibility for developing these methods is not necessarily that of the applicant.

The applicant has a responsibility for conducting monitoring necessary to verify the level of take. The Service is responsible, under the MMPA, for assessing the level of incidental taking and determining if the taking exceeds the anticipated level and has greater than a negligible impact on walrus and polar bear populations. The Service is also responsible for determining if the taking exceeds the anticipated level and has an unmitigable adverse impact on the availability of these species for subsistence uses.

Monitoring methods that might be used include, but are not limited to, aerial surveys, shipboard observations, acoustic studies, and monitoring radio-tagged walrus and polar bears in the vicinity of the activity.

At its discretion, the Service may place an observer on board seismic ships, icebreakers, support ships, and aircraft to monitor the impact of seismic exploration activities on walrus and polar bears and to observe other activities authorized by a scientific research permit or IHA.

The Service will coordinate monitoring plans for walrus and polar bears developed by applicants so that information is gathered in a consistent manner. The Service also will coordinate with other agencies that require monitoring programs (NMFS, MMS, and the State of Alaska) to avoid duplication of effort and data collection for the same exploration activity and applicant.

Development and participation in a cooperative research program is not a requirement for obtaining an IHA. However, the Service encourages research of polar bears and walrus, such as projects funded and supported by the National Fish and Wildlife Foundation. Holders of IHAs and the Service will meet annually to discuss monitoring goals and results. This type of program could create opportunities to collect valuable information that would provide additional insight into the relationship between seismic activities in support of the oil and gas industry and the basic biological requirements of the two species of concern.

Reporting

Polar bear and walrus observation forms will be provided by the Service to the applicants. Any polar bear or walrus sighting that occurs during the individual seismic programs must be submitted to the Service within 24 hours of the animal sighting. An annual report must be submitted to the Service within 90 days of completing the year's activities. This report will provide dates and locations of survey movements and other operational activities, weather conditions, dates and locations of any activities related to monitoring the effects on marine mammals, and the methods, results, and interpretation of all monitoring activities, including estimates of the level and type of take, numbers of each species observed, direction of movement of observed individuals, and any observed changes or modifications in behavior or travel direction.

Endangered Species Act

The Service has determined that no species listed as threatened or endangered under the Endangered Species Act of 1973, as amended, would be affected by issuing an IHA under section 101(a)(5)(D) of the MMPA to the applicants for the proposed open-water seismic surveys.

National Environmental Policy Act

The information provided in an Environmental Assessment (EA) prepared by the Service for 2006 open-water Chukchi Sea seismic activities has led the Service to conclude that implementation of either the preferred alternative or other alternatives identified in the EA would not have a significant impact on the human environment. Therefore, an Environmental Impact Statement was not prepared. For a copy of the EA, contact the individual identified in the section FOR FURTHER INFORMATION CONTACT.

Government-to-Government Relations With Native American Tribal Governments

In accordance with the President's memorandum of April 29, 1994, “Government-to-Government Relations with Native American Tribal Governments” (59 FR 22951), Executive Order 13175, Secretarial Order 3225, and the Department of the Interior's manual at 512 DM 2, we readily acknowledge our responsibility to communicate meaningfully with federally recognized Tribes on a Government-to-Government basis. We have evaluated possible effects on federally recognized Alaska Native tribes. Through the POC identified above, applicants will work with the Native Communities most likely to be affected and take actions to avoid interference with subsistence hunting.

Proposed Authorizations

The Service proposes to issue separate IHAs for small numbers of Pacific walrus and polar bears harassed incidentally by Shell, CPAI, and GXT seismic survey programs within the Chukchi Sea. These seismic programs are separate activities and independent of one another. Each applicant would be responsible for their own actions, operational conditions, and requirements for monitoring and reporting, as described above, under separate IHAs. The purpose of the seismic programs of Shell, CPAI, and GXT is oil and gas exploration. These seismic programs would be conducted in and around the 2007 MMS Chukchi Sea Lease Sale 193. All activities would be conducted during the 2006 open-water season. Authorizations for the oil and gas seismic operations would be for approximately 6 months. These authorizations do not allow the intentional taking of polar bear or Pacific walrus.

If the level of activity, including the number of miles for seismic surveys and the number of support vessels and aircraft flights associated with seismic exploration, exceeds that described by the applicants, or the level or nature of take exceeds those projected here, the Service would reevaluate its findings. The Secretary may modify, suspend, or revoke an authorization if the findings are not accurate or the conditions described herein are not being met.

Public Comments Solicited

The Service requests interested persons to submit comments and information concerning this proposed IHA. Consistent with section 101(a)(5)(D)(iii) of the MMPA, we are opening the comment period on this proposed authorization for 30 days (see ADDRESSES).

Our practice is to make comments, including names and home addresses of respondents, available for public review during regular business hours. Individual respondents may request that we withhold their home address from the record, which we will honor to the extent allowable by law. If you wish us to withhold your name and/or address, you must state that prominently at the beginning of your comment. However, we will not consider anonymous comments. We will make all submissions from organizations or businesses, and from individuals identifying themselves as representatives or officials of organizations or businesses, available for public inspection in their entirety.

Dated: May 2, 2006.
Karen Sullivan,
Acting Regional Director.

[FR Doc. 06-4284 Filed 5-3-06; 2:09 pm]

BILLING CODE 4310-55-P